NATIONAL SCIENCE FOUNDATION

Sunshine Act Meetings; Notice

The National Science Board, pursuant to NSF regulations (45 CFR Part 614), the National Science Foundation Act, as amended (42 U.S.C. 1862n-5), and the Government in the Sunshine Act (5 U.S.C. 552b), hereby gives notice in regard to the scheduling of meetings for the transaction of National Science Board business and other matters specified, as follows:

AGENCY HOLDING MEETING: National Science Board (NSF).

DATE AND TIME: February 20, 2013, from 8:00 a.m. to 5:00 p.m., and February 21, from 8:00 a.m. to 11:45 a.m.

PLACE: These meetings will be held at the National Science Foundation, 4201 Wilson Blvd., Rooms 1235 and 1295, Arlington, VA 22230. All visitors must contact the Board Office (call 703-292-7000 or send an email message to nationalsciencebrd@nsf.gov) at least 24 hours prior to the meeting and provide name and organizational affiliation. All visitors must report to the NSF visitor desk located in the lobby at the 9th and N. Stuart Streets entrance to receive a visitor's badge.

WEBCAST INFORMATION: The public meetings and public portions of meetings will be webcast. To view the meetings, go to http://www.tvworldwide.com/events/nsf/130220/ and follow the instructions.

UPDATES: Please refer to the National Science Board Web site www.nsf.gov/nsb for additional information. Meeting information and schedule updates (time, place, subject matter or status of meeting) may be found at http://www.nsf.gov/nsb/notices/.

AGENCY CONTACT: Jennie L. Moehlmann, jmoehlma@nsf.gov, (703) 292-7000.

PUBLIC AFFAIRS CONTACT: Dana Topousis, dtopousi@nsf.gov, (703) 292-7750.

STATUS: Portions open; portions closed.

Open Sessions

February 20, 2013

8:00-8:05 a.m. (Chairman's introduction)

8:05-8:20 a.m. (Joint CPP/CSB)

9:30-12:30 p.m. (CPP)

9:30-10:30 a.m. (CSB)

1:30-3:00 p.m. (CEH)

3:00-4:00 p.m. (SEI)

4:00-4:45 p.m. (A&O)

February 21, 2013

8:30-10:00 a.m. (TF Administrative Burden)

10:00-11:00 a.m. (Plenary)

Closed Sessions

February 20, 2013

8:20-9:20 a.m. (Joint CPP/CSB)

10:30-11:00 a.m. (CSB)

2:15-4:00 p.m. (CPP)

4:45-5:00 p.m. (A&O)

February 21, 2013

8:00-8:30 a.m. (Plenary executive closed)

11:15-11:45 a.m. (Plenary closed)

MATTERS TO BE DISCUSSED:

Wednesday, February 20, 2013

Committee on Programs and Plans and Committee on Strategy and Budget, Joint Meeting

Open Session: 8:05-8:20 a.m.

• Committee Chairs' Remarks

• Discussion Item: NSF Annual Facilities Plan

Committee on Programs and Plans and Committee on Strategy and Budget, Joint Meeting

Closed Session: 8:20-9:20 a.m.

• Discussion Item: NSF Annual Facilities Plan

Committee on Programs and Plans (CPP)

Open Session: 9:30-12:30 p.m.

• Approval of Open CPP Minutes for December 2012 (NSB/CPP-12-48)

• Committee Chairman's Remarks

• Discussion Item: Review of CPP Charge

• Information Item: Arctic Support Contract—Annual Update (NSB/CPP-13-1)

• Information Item: SAGE/GAGE GEO Proposals

• Information Item: Renewal of Award for Management of the National Center for Atmospheric Research (NCAR)

• Information Item: ALMA Operations Update on Recompetition

• Information Item: Update on the Science of Learning Centers Program

• CPP Program Portfolio Planning—Water; Next Steps and Schedule for Future Program Portfolio Discussions

Committee on Programs and Plans (CPP)

Closed Session: 2:15-4:00 p.m.

• Committee Chairman's Remarks

• Approval of Closed CPP Minutes for December 2012 (NSB/CPP-12-47)

• Continued Discussion on Blue Ribbon Panel Recommendations

• Action Item: National Ecological Observatory Network (NEON) Operations and Maintenance (NSB/CPP-13-3)

• Action Item: Authorization to fund Sustained-Petascale in Action: Blue Waters Enabling Transformative Science and Engineering (NSB/CPP-13-4)

Committee on Strategy and Budget (CSB)

Open Session: 9:30-10:30 a.m.

• Committee Chairman's Remarks

• Approval of CSB Open Minutes for December 2012 Meeting (NSB/CSB-12-16)

• NSF FY 2013 Budget Update

• NSF Strategic Plan Update

• Study on Trends in Science Budgets

• Other Committee Business

Committee on Strategy and Budget (CSB)

Closed Session: 10:30-11:00 a.m.

• Committee Chairman's Remarks

• Approval of CSB Closed Minutes for December 2012 Meeting (NSB/CSB-12-17)

• NSF FY 2014 and Future Budget Development

Committee on Education and Human Resources (CEH)

Open Session: 1:30-3:00 p.m.

• Approval of May 4, 2012 Open Meeting Minutes (NSB/CEH-12-6) and February 11, 2013 Open Teleconference Meeting Minutes (NSB/CEH-13-3)

• Introductory Remarks by the Chairman and Vice Chairman

• Graduate Education to Prepare the Future STEM Workforce

• Innovations in Undergraduate STEM Education—Discipline-Based Education Research Report by the National Academy of Sciences; Building Community Support to Implement “Vision and Change”

• Identification of Other Potential Topics of Committee Interest—Implications and Status of Massively Open Online Courses (MOOCs) for STEM Education and an Update on NSF MOOC-related Activities; Next Steps for Finalizing and Implementing Committee Priorities

Committee on Science & Engineering Indicators (SEI)

Open Session: 3:00-4:00 p.m.

• Chairman's Remarks

• Approval of December Meeting Minutes (NSB/SEI-12-16)

• Update on Science and Engineering Indicators 2014 Production

• Update on the development of Science and Engineering Indicators 2014 Mobile Application

• Taking Advantage of Digital Delivery for Indicators: Project Update

• Discussion of Potential Topics for Companion(s) to Indicators 2014

• Update on Potential NSB Panel Discussion on Research Universities

• Update on the Revised “STEM Education Data and Trends” Online Tool

• Chairman's Summary

Committee on Audit and Oversight (A&O)

Open Session: 4:00-4:45 p.m.

• Approval of Minutes of the December 2012 Meeting (NSB/A&O-12-14)

• Committee Chairman's Opening Remarks

• Inspector General's Update

• Chief Financial Officer's Update

• Periodic Review of Committee Charge

• Committee Chairman's Closing Remarks

Committee on Audit and Oversight (A&O)

Closed Session: 4:45-5:00 p.m.

• Committee Chairman's Opening Remarks

• FY 2014 Planning

• Committee Chairman's Closing Remarks

Thursday, February 21, 2013

Plenary Board Meeting

Executive Closed Session: 8:00-8:30 a.m.

• Approval of Executive Closed Session Minutes, December 2012 Meeting (NSB-12-64)

• Approval of Honorary Award Recommendation

• Candidate Site for 2013 Board Retreat and Off-Site Meeting and Visits

• Recommendation on Appointment of NSF Director

Task Force on Administrative Burdens

Open Session: 8:30-10:00 a.m.

• Approval of the January 17, 2013 Teleconference Minutes (NSB/AB-12-64)

• Task Force Chairman's Remarks

• Discussion Item: The Federal Demonstration Partnership's Current Initiatives and Results of the 2012 Faculty Workshop

• Discussion Item: Initiatives of the Research Business Models Interagency Working Group of the Social, Behavioral and Economic Research Subcommittee of the Committee on Science of the National Science and Technology Council

• General Discussion—Data Collection Initiatives, Request for Information; A-81 (Omni Circular); Public Meetings with the Scientific Community

Plenary Board Meeting

Open Session: 10:00-11:00 a.m.

• Approval of Open Session Minutes, December 2012 (NSB-12-64)

• Chairman's Report

• Director's Report

• Open Committee Reports

Plenary Board Meeting

Closed Session: 11:15-11:45 a.m.

• Approval of Closed Session Minutes, December 2012 (NSB-12-65)

• Awards and Agreements/Resolutions—

○ Directorate for Biological Sciences (BIO), Emerging Frontiers Office (EF): Initial Operations for the National Ecological Observatory Network (NEON) (NSB-13-7)

○ Directorate for Computer and Information Science and Engineering (CISE), Division of Advanced Cyberinfrastructure (ACI): Authorization to fund Sustained-Petascale in Action: Blue Waters Enabling Transformative Science and Engineering (NSB-13-8)

• Closed Committee Reports

MEETING ADJOURNS: 11:45 a.m.

Ann Bushmiller,
Senior Counsel to the National Science Board.

[FR Doc. 2013-03651 Filed 2-12-13; 4:15 pm]

BILLING CODE 7555-01-P